DEPARTMENT OF ENERGY

Federal Energy Regulatory Commission

[Project No. 459-128]

Union Electric Company (d/b/a/ AmerenUE); Notice of Application and Applicant Prepared Environmental Assessment Tendered for Filing With the Commission, Establishing Procedural Schedule for Relicensing and Deadline for Submission of Final Amendments

March 4, 2004.

Take notice that the following hydroelectric application has been filed with the Commission and is available for public inspection.

a. Type of Application: New major license.

b. Project No.: 459-128.

c. Date Filed: February 24, 2004.

d. Applicant: Union Electric Company (d/b/a/ AmerenUE).

e. Name of Project: Osage Hydroelectric Project.

f. Location: On the Osage River, in Benton, Camden, Miller and Morgan Counties, central Missouri. The project occupies 1.6 acres of Federal land.

g. Filed Pursuant to: Federal Power Act 16 U.S.C. (( 791 (a)-825(r).

h. Applicant Contact: Jerry Hogg, Superintendent Hydro Regulatory Compliance, AmerenUE, 617 River Road, Eldon, MO 65026; Telephone (573) 365-9315; e-mail jhogg@ameren.com.

i. FERC Contact: Allan Creamer at (202) 502-8365; or e-mail at allan.creamer@ferc.gov.

j. Deadline for filing comments on the application: 60 days from the filing date shown in paragraph (c), or April 26, 2004.

All documents (original and eight copies) should be filed with: Magalie R. Salas, Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing process. The Commission strongly encourages electronic filing.

The Commission's rules of practice require all interveners filing documents with the Commission to serve a copy of that document on each person on the official service list for the project. Further, if an intervener files comments or documents with the Commission relating to the merits of an issue that may affect the responsibilities of a particular resource agency, they must also serve a copy of the document on that resource agency.

k. Cooperating Agencies: We are asking Federal, State, local, and tribal agencies with jurisdiction and/or special expertise with respect to environmental issues to cooperate with us in the preparation of the environmental document. Agencies who would like to request cooperating status should follow the instruction for filing comments described in item j above.

l. Status: This application has not been accepted for filing. We are not soliciting motions to intervene, protests, or final terms and conditions at this time.

m. The Project Description: The existing project consists of: (1) A 2,543-foot-long, 148-foot-high dam comprised of, from right to left: (i) A 1,181-foot-long, non-overflow section, (ii) a 520-foot-long gated spillway section, (iii) a 511-foot-long intake works and powerhouse section, and (iv) a 331-foot-long non-overflow section; (2) an impoundment (Lake of the Ozarks), approximately 93 miles in length, covering 54,000 acres at a normal full pool elevation of 660 feet mean sea level; (3) a powerhouse, integral with the dam, containing eight main generating units (172 MW) and two auxiliary units (2.1 MW each), having a total installed capacity of 176.2 MW; and (4) appurtenant facilities. The project generates an average of 636,397 megawatt-hours of electricity annually.

AmerenUE currently operates, and is proposing to continue to operate, the Osage Project as a peaking and load regulation facility. AmerenUE proposes to upgrade two of the facility's eight main generating units and the two smaller, auxiliary generating units. With the proposed upgraded units, energy generation is estimated to increase by about 5.6 percent. In addition to the physical plant upgrades, AmerenUE proposes a variety of environmental and recreation measures.

n. Locations of the Application: A copy of the application is available for review at the Commission in the Public Reference Room or may be viewed on the Commission's Web site at http://www.ferc.gov using the “eLibrary” link. Enter the docket number, excluding the last three digits in the docket number field (P-459), to access the document. For assistance, contact FERC Online Support at FERCOnlineSupport@ferc.gov or toll-free at 1-866-208-3676, or for TTY, (202) 502-8659. A copy is also available for inspection and reproduction at the address in item (h) above.

You may also register online at http://www.ferc.gov/esubscribenow.htm to be notified via email of new filings and issuances related to this or other pending projects. For assistance, contact FERC Online Support.

o. Procedural Schedule and Final Amendments: The application will be processed according to the following Hydro Licensing Schedule. Revisions to the schedule may be made as appropriate.

Milestone: Issue acceptance or deficiency letter. Target Date: May 2004.

Milestone: Request additional information (if necessary). Target Date: May 2004.

Notice soliciting final terms and conditions. Target Date: July 2004.

Notice of availability of the EA. Target Date: December 2004.

Ready for Commission Decision on the Application. Target Date: August 2005.

At this time, we intend to prepare a single environmental document. The EA will include our recommendations for operational measures and environmental enhancement measures that should be part of any license issued by the Commission. Recipients will have 45 days to provide the Commission with any written comments on the EA. All comments filed with the Commission will be considered in the order taking final action on the license application. Should substantive comments, requiring additional analysis, be received, a revised NEPA document will be prepared.

Final amendments to the application must be filed with the Commission no later than 30 days from the issuance date of the notice soliciting final terms and conditions.

Magalie R. Salas,
Secretary.

[FR Doc. E4-512 Filed 3-10-04; 8:45 am]

BILLING CODE 6717-01-P